DEPARTMENT OF JUSTICE

Bureau of Alcohol, Tobacco, Firearms and Explosives

Agency Information Collection Activities; Proposed Collection, Comments Requested

ACTION: 60-Day Emergency Notice of Information Collection Under Review: Revision of a Currently Approved Collection, Application for Explosives License or Permit.

The Department of Justice, Bureau of Alcohol, Tobacco, Firearms and Explosives has submitted the following information collection request to the Office of Management and Budget (OMB) for review and clearance in accordance with emergency review procedures of the Paperwork Reduction Act of 1995. OMB approval has been requested by February 18, 2003. The proposed information collection is published to obtain comments from the public and affected agencies. If granted, the emergency approval is only valid for 180 days. Comments should be directed to OMB, Office of Information and Regulatory Affairs, Attention: Department of Justice Desk Officer (202) 395-6466, Washington, DC 20503.

During the first 60 days of this same review period, a regular review of this information collection is also being undertaken. All comments and suggestions, or questions regarding additional information, to include obtaining a copy of the proposed information collection instrument with instructions, should be directed to US Department of Justice, Bureau of Alcohol, Tobacco, Firearms, and Explosives ATTN: Gail Davis, Chief, Public Safety Branch, 800 K Street, NW., Suite 710, Washington, DC 20001.

Request written comments and suggestions from the public and affected agencies concerning the proposed collection of information. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected, and

(4) Minimize the burden of the collection of information on those who are to respond, including through the use of appropriate automated, electronic, mechanical, or other technological collection techniques or other forms of information technology, e.g., permitting electronic submission of responses.

Overview of this information:

(1) Type of information collection: Revision of a currently approved collection.

(2) The title of the form/collection: Application For Explosives License or Permit.

(3) The agency form number, if any, and the applicable component of the department sponsoring the collection: Form Number: ATF F5400.13/5400.16.

(4) Affected public who will be asked or required to respond, as well as a brief abstract: Primary: Business, Individuals Abstract: The purpose of this collection is to enable ATF to ensure that persons seeking to obtain a license or permit under 18 USC, Chapter 40, and responsible person of such companies are not prohibited from shipping, transporting, receiving, or possessiong explosives.

(5) An estimate of the total number of respondents and the amount of time estimated for an average respondent to respond/reply: There are approximately 10,000 respondents who will each require an average of 1 hour and 30 minutes to respond.

(6) An estimate of the total public burden (in hours) associated with the colection: The total annual public burden hours for this information collection is estimated to be 15,000 hours.

In additional information is required contact: Robert B. Briggs, Department Clearance Officer, Information Management and Security Staff, Justice Management Division, United States Department of Justice, 601 D Street NW., Patrick Henry Building, Suite 1600, Washington, DC 20530.

Dated: January 29, 2003.
Robert B. Briggs,
Department Clearance Officer, United States Department of Justice.

[FR Doc. 03-2497 Filed 2-04-03; 8:45 am]

BILLING CODE 4410-FB-M